DEPARTMENT OF JUSTICE

National Institute of Corrections

Solicitation for a Cooperative Agreement—Technical Assistance in Institution Mission Change

AGENCY: National Institute of Corrections, U.S. Department of Justice.

ACTION: Solicitation for a Cooperative Agreement.

SUMMARY: The Department of Justice (DOJ), National Institute of Corrections (NIC) announces the availability of funds in FY 2000 for a cooperative agreement to provide Technical Assistance to state correctional agencies in addressing the change of mission in a state prison(s).

Background

With the unprecedented growth of offender populations, the changing profile of the offenders (increasing numbers of aging, violent juveniles sentenced as adults, women, mentally ill, etc.), and the inability of many jurisdictions to keep pace with construction of appropriate facilities, many correctional systems have been required to change all or a portion of the original mission of existing institutions. This has often resulted in substantial changes in levels of staffing, shifting roles and responsibilities, facility renovation that has changed the nature of staff/inmate contact and delivery of service, reassignment of staff, and increased training needs. In some instances, dramatic mission change has occurred as, for example, prisons for men have become women's prisons, juvenile facilities have become adult, or mental health facilities have become standard prisons. In other instances, with the movement of lower custody inmates to other states or to private contract facilities, the percentage of violent or difficult inmates has increased and impacted the mission of the facility. In addition, as prison systems have expanded and some institutions have become more crowded without corresponding increases in funding and, in many instances, reduction of resources, a former mission has become obsolete without a planned or intentional change of mission.

In FY99 the National Institute of Corrections (NIC) sponsored a cooperative agreement for the study of institution mission change. The experience of eleven (11) institutions whose core mission had been changed was examined. Through observation, interviews, and other strategies designed to gain understanding of the change process, the central elements of successful organizational change in the institutional context were identified. The methodology, processes, and strategies for successful management of mission change were studied and the lessons learned, both positive and negative, were documented. The impact of organizational change on correctional staff, the resulting role confusion or disparity, and strategies for minimizing negative staff effects were specifically examined.

A report documenting the relevant data and findings was prepared and materials were developed that will assist in planning and implementing mission change. These materials include facilitation guides to assist administrators in establishment of executive parameters governing decision-making, strategic planning guides related to mission change, project management software, and materials to assist in presenting supervisor and staff workshops to enhance understanding of change, the change process, and the agency/institution plan.

In a collaborative venture with the NIC Prisons Division, the recipient of the FY2000 Cooperative Agreement will provide Technical Assistance to a minimum of 5 state correctional agencies/institutions in addressing mission change. This may include agencies/institutions who are experiencing difficulties because of mission change that occurred in the recent past, those who are planning or preparing to implement mission change, or other change scenarios that are consistent with the objectives of this project. The agencies receiving assistance may include those who participated in the FT1999 project or others expressing a need and interest.

The project awardee and NIC will develop an announcement of the award in which requests for assistance are solicited. A questionnaire will be included with the announcement that will gather basic information concerning the nature of the need in the agencies/institutions applying for the assistance. The awardee and NIC will jointly select participant agencies based on factors including, but not limited to, the nature of the need identified, representation of types of mission change, region of the country, size of the jurisdiction/institution, and other factors identified by applicants for this cooperative agreement. The Technical Assistance will be fully documented including, at minimum, a description of the problem or need, documentation of the awardee's on-site assessment, strategies employed in providing assistance, and an outcome evaluation and narrative.

A total of $152,000 is reserved for this project which will support one cooperative agreement for a 12 month period. The recipient of the award will be selected through a competitive solicitation process. Dick Franklin is the designated NIC project manager.

Project Scope

The goals of this cooperative agreement include the following:

• In selecting participant agencies/institutions, explore the background of the request for Technical Assistance to determine, at minimum, the nature of the issue/problem to be addressed, feasibility of Technical Assistance as a vehicle to address the issue/problem, probable strategies and resources required for successful intervention, and the level of impact successful intervention will have in the agency/institution.

• Determine the level of commitment of the staff who are essential to successful intervention and their ability and willingness to be full partners in the effort to provide assistance.

• Upon selection of an agency/institution for participation, in-depth assessment of the environment and operation to achieve understanding of the issue/problem, whether the desired change is a reasonable objective, and other issues critical in assessment of the feasibility of intervention.

• Identify forces and stakeholders, including community and other external influences, that impact upon the acceptance and adjustment to change by the organization, institutional operations and programs, and staff.

• Identify probable strategies of interface and develop strategies for intervention that has the acceptance and full support of the agency and institution leadership and shows promise of successful assistance/intervention.

• Develop a summary report of the assistance provided that will provide correctional administrators with insights in addressing issues/problems of change or in planning and implementing mission change. The summary report will consist of an expanded case study of each of the participating sites.

• Develop a summary of the project consisting of lessons learned and guidelines for the management of mission change.

• Assess outcomes and the impact of the project relative to its stated intent and the needs of the field.

Specific Requirements

The successful applicant will propose a project approach that will ensure accomplishment of each of the stated goals of this project. At minimum, the following requirements will be met in pursuit of the stated goals:

• Review of the FY 1999 Management of Institution Mission Change project deliverables.

• Identification of relevant literature and other information that will illuminate the subject area and contribute to understanding of the key issues of promising approaches to change in the institution environment.

• Formation of a conceptual framework reflecting awareness of the issues in change in an institution environment and project staff possessing the requisite skills and knowledge essential to the success of the project.

• Coordination with the NIC project director at critical points in project development and as necessary to ensure clarity and accomplishment of goals and a satisfactory outcome.

Additional, specific requirements related to the training package are as follows:

Following review in draft form by the project coordinator, the summary report must be professionally edited and submitted in camera-ready hard copy and 3.5″ computer disk or zip drive disk using WordPerfect 7.0 or higher software for use with IBM compatible computers with Windows operating systems.

It will be the responsibility of the award recipient to secure written approval to use any copyrighted materials or photographs and to provide the original approval with the documents.

Authority: Public Law 93-415.

Funds Available

The award will be limited to a maximum of $152,000 (direct and indirect costs) and project activity must be completed within 12 months of the date of award. Funds may not be used for construction, or to acquire or build real property. This project will be a collaborative venture with the NIC Prisons Division.

Application Requirements

Applicants must prepare a proposal that defines their plan for meeting the goals and requirements of this project. They are expected to define the conceptual framework most appropriate and relevant and the methodology to used in pursuing the project goals. In addition, they will identify a project staff in which all of the requisite skills are represented and who have made a commitment of time to the project. The conceptual framework of the proposal will demonstrate the applicants understanding of the management of change in the institution context and, though subject to further definition based on the nature of the requests for assistance, will demonstrate the applicants vision of the completed project.

Funding for this project has been established at $152,000. The applicant must provide a budget and budget narrative that clearly identifies the allocation of funds for achievement of the goals of the cooperative agreement. The rationale for the expenditures must be provided in the budget narrative unless patently obvious in the proposal.

Deadline for Receipt of Applications

Applications must be received by 4:00 p.m., EDT, on Friday, May 26, 2000. They should be addressed to: Director, National Institute of Corrections, 320 First Street, NW, Room 5007, Washington, DC 20534. Hand delivered applications should be brought to 500 First Street, NW, Washington, DC 20534. The front desk will call Bobbi Tinsley at (202) 307-3106, extension 0 for pickup.

ADDRESSES AND FURTHER INFORMATION: Request for the applicant kit, should be directed to Judy Evens, Cooperative Agreement Control Office, National Institute of Corrections, 320 First Street, N. W., Room 5007, Washington, D. C. 20534 or by calling 800-995-6423, ext. 159, 202-307-3106, ext. 159, or email: jevens@bop.gov. A copy of this announcement and application forms may also be obtained through the NIC web site: http//www.nic.org (click on “What's New” and “Cooperative Agreements”). All technical and/or programmatic questions concerning this announcement should be directed to Dick Franklin at the above address or by calling 800-995-6423 or 202-307-1300, ext. 145, or by E-mail via rfranklin@bop.gov.

Project Completion

The award recipient will be responsible to submit all required reports and corrections or revisions of materials in a timely manner. The project period is 12 months from the date of the award and the project will not be deemed to have been completed until a final draft is accepted by the project coordinator.

Eligible Applicants

An eligible applicant is any state or general unit of local government, public or private, educational institutional, organization, team, or individual with the requisite skills to successfully meet the outcome objectives of the project.

Review Considerations

Applications received under this announcement will be subjected to an NIC 3 to 5 member Peer Review Process. It is anticipated that the award will be made within 60-90 days following the application due date.

Number of Awards: One (1).

NIC Application Number: 00P05 This number should appear as a reference line in your cover letter and also in box 11 of Standard Form 424.

Executive Order 12372

This program is subject to the provision of Executive Order 12372. Executive Order 12372 allows States the option of setting up a system for reviewing applications from within their States for assistance under certain Federal programs. Applicants (other than Federally-recognized Indian tribal governments) should contact their State Single Point of Contact (SPOC), a list of which is included in the application kit, along with further instructions on proposed projects serving more than one State.

Catalog of Federal Domestic Assistance Number: 16.603

Dated: April 20, 2000.
Morris L. Thigpen,
Director, National Institute of Corrections.

[FR Doc. 00-10327 Filed 4-25-00; 8:45 am]

BILLING CODE 4410-36-M